DEPARTMENT OF HEALTH AND HUMAN SERVICES

Centers for Disease Control and Prevention

[60Day-12-0134]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 and send comments to Kimberly Lane, CDC Reports Clearance Officer, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Foreign Quarantine Regulations (42 CFR 71) (OMB Control No. 0920-0134) exp. 6/30/12)—Revision—National Center for Emerging and Zoonotic Infectious Diseases (NCEZID), Centers for Disease Control and Prevention (CDC).

Background and Brief Description

Section 361 of the Public Health Service Act (PHSA)(42 U.S.C. 264) authorizes the Secretary of Health and Human Services (HHS) to make and enforce regulations necessary to prevent the introduction, transmission, or spread of communicable diseases into the United States. Legislation and existing regulations governing the foreign quarantine activities (42 CFR 71) authorize quarantine officers and other personnel to inspect and undertake necessary control measures with respect to conveyances, persons, and shipments of animals and etiologic agents entering the United States from foreign ports in order to protect the public's health.

Under the foreign quarantine regulations, the master of a ship or captain of an airplane entering the United States from a foreign port is required by public health law to report certain illnesses among passengers (42 CFR 71.21 (b)). In addition to the aforementioned list of illnesses which must be reported to CDC, the master of a ship or captain of an airplane must also report (1) Hemorrhagic Fever Syndrome (persistent fever accompanied by abnormal bleeding from any site); or (2) acute respiratory syndrome (severe cough or severe respiratory disease of less than 3 weeks in duration); or (3) acute onset of fever and severe headache, accompanied by stiff neck or change in level of consciousness. CDC has the authority to collect personal health information to protect the health of the public under the authority of section 301 of the Public Health Service Act (42 U.S.C.).

This information collection request also includes the Passenger Locator Information Form. The Passenger Locator Information Form is used to collect reliable information that assists quarantine officers in locating, in a timely manner, those passengers and crew who are exposed to communicable diseases of public health significance while traveling on a conveyance. HHS delegates authority to CDC to conduct quarantine control measures. Currently, with the exception of rodent inspections and the cruise ship sanitation program, inspections are performed only on those vessels and aircraft which report illness prior to arrival or when illness is discovered upon arrival. Other inspection agencies assist quarantine officers in public health screening of persons, pets, and other importations of public health significance and make referrals to the Public Health Service when indicated. These practices and procedures assure protection against the introduction and spread of communicable diseases into the United States with a minimum of recordkeeping and reporting as well as a minimum of interference with trade and travel.

Small revisions are being requested as part of this package. A modification of format to the Passenger Locator Form (PLF) is requested to account for a change in the scanning software used for the PLF. No change in content is requested. The content will remain identical to the version approved by OMB on 10/28/11.

Changes to the data collection related to the confinement of dogs upon arrival to the United States are also requested. The CDC form 75.37, “Notice of Importers of Dogs” will now be identified as CDC form 75.37 “NOTICE TO OWNERS AND IMPORTERS OF DOGS: Requirement for Dog Confinement.” The form has been changed to enhance clarity around the purpose of the form, including: the type of data required, the regulatory requirements the form is meeting, the responsibilities of the importer, whether or not the animal has received a booster rabies vaccine, and the responsibility of the government agent in ensuring that the form is complete.

Respondents to this data collection include airline pilots, ships' captains, importers, and travelers. The nature of the quarantine response dictates which forms are completed by whom. There are no costs to respondents except for their time to complete the forms.

Estimate of Annualized Burden Hours
Respondent | Citation | Number of respondents | Number of responses per respondent | Average burden per respondent (in hours) | Total burden
Maritime conveyance operators | 71.21(a) Radio Report of death/illness—illness reports from ships | 2000 | 1 | 2/60 | 67
Aircraft commander or operators | 71.21(b) Death/Illness reports from aircrafts | 1700 | 1 | 2/60 | 57
Maritime conveyance operators | 71.21(c ) Gastrointestinal Illnesses reports 24 and 4 hours before arrival (VSP) | 17000 | 1 | 3/60 | 850
Maritime conveyance operators | 71.21 (c) Recordkeeping—Medical logs | 17000 | 1 | 3/60 | 850
Isolated or Quarantined individuals | 71.33(c) Report by persons in isolation or surveillance | 11 | 1 | 3/60 | 1
Maritime conveyance operators | 71.35 Report of death/illness during stay in port | 5 | 1 | 30/60 | 3
Aircraft commander or operators | Locator Form used in an outbreak of public health significance | 2,700,000 | 1 | 5/60 | 225,000
Aircraft commander or operators | Locator Form used for reporting of an ill passenger(s) | 800 | 1 | 5/60 | 67
Importer | 71.51(b)(2) Dogs/cats: Certification of Confinement, Vaccination | 2000 | 1 | 10/60 | 333
Importer | 71.51(b)(3) Dogs/cats: Record of sickness or deaths | 20 | 1 | 15/60 | 5
Importer | 71.52(d) Turtle Importation Permits | 5 | 1 | 30/60 | 3
Non-Human Primate Importer | 71.53(d) Importer Registration—Nonhuman Primates | 40 | 1 | 10/60 | 7
Non-Human Primate Importer | 71.53(e) Recordkeeping | 30 | 4 | 30/60 | 60
Importers | 71.55 Dead bodies | 5 | 1 | 1 | 5
Importer | 71.56 (a)(2) African Rodents—Request for exemption | 20 | 1 | 1 | 20
Importer | 71.56(a)(iii) Appeal | 2 | 1 | 1 | 2
Total |  | 2,740,638 |  |  | 227,330

Kimberly S. Lane,
Reports Clearance Officer, Centers for Disease Control and Prevention.

[FR Doc. 2012-2951 Filed 2-14-12; 8:45 am]

BILLING CODE 4163-18-P